DEPARTMENT OF THE INTERIOR

Bureau of Land Management

[UT-050-07-1430-EU; UTU-78474]

Notice of Intent To Amend the Mountain Valley Management Framework Plan; Utah

AGENCY: Bureau of Land Management, Interior.

ACTION: Notice of Intent and Notice of Realty Action.

SUMMARY: A parcel of public land totaling 4.82 acres in Piute County, Utah is being considered for non-competitive (direct) sale under the provisions of the Federal Land Policy and Management Act of 1976 (FLPMA) at not less than the appraised fair market value. The Bureau of Land Management (BLM) proposes to amend the Mountain Valley Management Framework Plan to identify the 4.82 acre parcel for sale.

DATES: In order to ensure consideration in the environmental analysis of the proposed plan amendment, comments must be received August 20, 2007.

ADDRESSES: Address all comments concerning this Notice to the Associate Field Office Manager, BLM Richfield Field Office, 150 East 900 North, Richfield, Utah 84701.

FOR FURTHER INFORMATION CONTACT: Nancy DeMille, Realty Specialist, at the above address or at (435) 896-1515.

SUPPLEMENTARY INFORMATION: This notice initiates scoping for the amendment of the Mountain Valley management Framework Plan (1982) as amended (MVMFP), in accordance with 43 CFR 1610.2(c). If and when the BLM State Director does or does not approve such an amendment, the public will be notified in accordance with 43 CFR 1610.5-5.

The BLM intends to amend the MVMFP because the following described public land in Piute County, Utah is being considered for non-competitive (direct) sale under the authority of section 203 of the FLPMA of 1976 (43 U.S.C. 1713):

Salt Lake Meridian, Utah

T. 27 S., R. 4 W.,

Sec. 26, Lot 53B

The area described contains 4.82 acres in Piute County. Sale of the lands described would not be in conformance with the current land use plan. The MVMFP does not identify this tract for a FLPMA sale. The proposed plan amendment would serve to identify the 4.82 acre tract for disposal consistent with the sale criteria in section 203 of the FLPMA, in order to allow for the possibility of sale of this parcel. The purpose of the proposed plan amendment, and the consideration of sale of these identified lands is to resolve an inadvertent unauthorized occupancy of the public land, and to protect existing equities in the land, in accordance with 43 CFR 2710.0-6(c)(3)(iii). Should the amendment be approved, the BLM will consider sale of the identified parcel to Audrey G. Roth, current occupant on that parcel. Following a decision to approve the proposed plan amendment, and further procedures in accordance with the FLPMA and its implementing regulations, conveyance of the identified land would be subject to valid existing rights and encumbrances, including but not limited to, rights-of-way for roads and utilities. Conveyance of any mineral interests pursuant to section 209 of the FLPMA will be analyzed during processing of the sale, should it be proposed.

Public Comments

For a period until August 20, 2007, interested parties and the general public may submit in writing any comments concerning the proposed land use plan amendment, including notification of any encumbrances or other claims relating to the identified public land, to the Associate Field Office Manager, Richfield Field Office, at the above address. In order to ensure consideration in the environmental analysis of the proposed plan amendment, comments must be in writing and postmarked or delivered within 45 days of the initial date of publication of this notice. Comments transmitted by e-mail will not be accepted. Comments, including names and street addresses of respondents, will be available for public review at the BLM Richfield Field Office during regular business hours, except holidays. Before including your address, phone number, e-mail address, or other personal identifying information in your comment, you should be aware your entire comment—including your personal identifying information—may be made publicly available at any time. While you can ask in your comment to withhold your personal identifying information from public review, we cannot guarantee we will be able to do so.

(Authority: 43 CFR 1610.2(c))

Wayne A. Wetzel,
Associate Field Office Manager.

[FR Doc. E7-13994 Filed 7-18-07; 8:45 am]

BILLING CODE 4310-DQ-P